DEPARTMENT OF HOMELAND SECURITY

Transportation Security Administration

Intent To Request Revision From OMB of One Current Public Collection of Information: TSA End of Course Level 1 Evaluation—Instructor-Led Classroom Training

AGENCY: Transportation Security Administration, DHS.

ACTION: 60-day notice.

SUMMARY: The Transportation Security Administration (TSA) invites public comment on one currently approved Information Collection Request (ICR), Office of Management and Budget (OMB) control number 1652-0041, abstracted below that we will submit to OMB for a revision in compliance with the Paperwork Reduction Act (PRA). The ICR describes the nature of the information collection and its expected burden. The collection involves the submission of ratings and written comments about the quality of training instruction from TSA students who successfully complete TSA instructor-led classroom training, including civilian Canine Training Center (CTC) students who graduate from the Explosives Detection Canine Handler Course, Passenger Screening Canine Handler Course, Bridge Course, Canine Technical Operations Course, or the Office of Security Operations Canine (OSO) Management Course.

DATES: Send your comments by April 2, 2018.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0041; TSA End of Course Level 1 Evaluation-Instructor-Led Classroom Training. TSA's CTC delivers the Explosives Detection Canine Handler Course, Passenger Screening Canine Handler Course, Bridge Course, Canine Technical Operations Course, and the OSO Management Course to TSA, state and local civilian personnel. State and local civilian personnel (primarily, law enforcement agencies that are responsible for the security at airports throughout the United States) participate under agency-specific cooperative agreements with TSA's National Explosives Detection Canine Team Program. This information collection captures ratings and written comments from students about the quality of the referenced training. The CTC collects the evaluation data to determine the extent to which students were satisfied with their learning experience and provides it to representatives at both TSA headquarters and at CTC (e.g., to the Supervisory Air Marshal in Charge, Assistant Supervisory Air Marshal in Charge, and CTC instructional staff and supervisors) to improve the course curriculum and course of instruction.

TSA is revising the information collection because the agency is changing the questions and layout of the evaluation to standardize all Level 1 course evaluations across TSA.¹ Standardization allows comparison of courses to a single, TSA-average score, as well as comparison of other courses' average scores. In addition, TSA is removing from the form all personally identifiable information (PII) as well as course code and location, as these elements are not necessary to the collection. Finally, TSA is also revising the name of the collection from “TSA OTWE Canine Training and Evaluation Branch End of Course Level 1 Evaluation” to “TSA End of Course Level 1 Evaluation-Instructor-Led Classroom Training.”

¹ A training evaluation process developed by Dr. Donald Kirkpatrick, past president of the American Society for Training and Development (ASTD), for determining the effectiveness of training and consisting of four levels: Reaction, learning, behavior, and results. See, Kirkpatrick, James D. & Wendy Kayser, “Kirkpatrick's Four Levels of Training Evaluation.” Alexandria: ATD Press, 2016. Print. https://www.kirkpatrickpartners.com.

The estimated burden is approximately 30 minutes (0.5 hours) per participant, 39.5 hours per calendar year (average 79 students per calendar year) to read, answer, and submit the questions. The annual respondents and burden hours have decreased from the prior ICR submission estimates due to the focus being civilian/non-TSA personnel. The number of students decreased from 180 to 79. The annual burden hours have decreased accordingly. In addition, TSA reduced its hour burden estimates from 60 minutes to 30 minutes based on actual usage data.

Dated: January 26, 2018.
Christina A. Walsh,
TSA Paperwork Reduction Act Officer, Office of Information Technology.

[FR Doc. 2018-01867 Filed 1-30-18; 8:45 am]

BILLING CODE 9110-05-P